DEPARTMENT OF HEALTH AND HUMAN SERVICES

Substance Abuse and Mental Health Services Administration

Center for Substance Abuse Prevention; Notice of Meeting

Pursuant to Public Law 92-463, notice is hereby given for the meeting of the Substance Abuse and Mental Health Services Administration's (SAMHSA) Center for Substance Abuse Prevention National Advisory Council (CSAP NAC) on August 14, 2013.

A portion of the meeting will be open and will include discussion of the Affordable Care Act, as well as CSAP program developments.

The meeting will also include the review, discussion, and evaluation of grant applications. Therefore, a portion of the meeting will be closed to the public as determined by the SAMHSA Administrator in accordance with Title 5 U.S.C. 552b(c)(9)(B) and 5 U.S.C. App. 2, Section 10(d).

To attend the public portion of the meeting onsite, submit written or brief oral comments, request special accommodations for persons with disabilities, or participate via webcast, please register at the SAMHSA Committees' Web site, http://nac.samhsa.gov/Registration/meetingsRegistration.aspx, or communicate with the CSAP Council's Designated Federal Officer (see contact information below).

Substantive program information, a summary of the meeting, and a roster of committee members may be obtained either by accessing the SAMHSA Committee's Web site after the meeting, http://nac.samhsa.gov/, or by contacting Matthew J. Aumen. A transcript of the open portion of the meeting will also be available on the SAMHSA Web site after the meeting.

Committee Name: Substance Abuse and Mental Health Services; Administration Center for Substance Abuse Prevention National Advisory Council.

Date/Time/Type: August 14, 2013 from 9:30am to 3:30pm EDT: (Open); August 14, 2013 from 4:00pm to 5:00pm EDT: (Closed).

Place: SAMHSA, 1 Choke Cherry Road, Seneca Conference Room (lobby level), Rockville, MD 20857.

Contact: Matthew J. Aumen, Designated Federal Officer, SAMHSA CSAP NAC, 1 Choke Cherry Road, Rockville, Maryland 20857, Telephone: 240-276-2419, Fax: 240-276-2430 and Email: matthew.aumen@samhsa.hhs.gov.

Cathy J. Friedman,
Public Health Analyst, Substance Abuse and Mental Health, Services Administration.

[FR Doc. 2013-18105 Filed 7-26-13; 8:45 am]

BILLING CODE 4162-20-P